DEPARTMENT OF AGRICULTURE

Agricultural Marketing Service

[Docket Number FV-05-304]

United States Standards for Grades of Fresh Asparagus

AGENCY: Agricultural Marketing Service, USDA.

ACTION: Notice.

SUMMARY: The Agricultural Marketing Service (AMS) of the Department of Agriculture (USDA) is soliciting comments on its proposal to revise the United States Standards for Grades of Fresh Asparagus. At a 2003 meeting of the Fruit and Vegetable Industry Advisory Committee, AMS was asked to review all the fresh fruit and vegetable grade standards for usefulness in serving the industry. As a result, AMS has noted the current U.S. Grade standards do not have provisions for grading purple or white asparagus. The proposed revision will allow purple or white asparagus to be certified to a U.S. grade.

DATES: Comments must be received by December 5, 2005.

ADDRESSES: Interested persons are invited to submit written comments to the Standardization Section, Fresh Products Branch, Fruit and Vegetable Programs, Agricultural Marketing Service, U.S. Department of Agriculture, 1400 Independence Ave. SW., Room 1661 South Building, Stop 0240, Washington, DC 20250-0240; Fax (202) 720-8871; E-mail FPB.DocketClerk@usda.gov. Comments should make reference to the dates and page number of the issue of the Federal Register and will be made available for public inspection in the above office during regular business hours. The current United States Standards for Grades of Fresh Asparagus, along with the proposed changes, will be available either through the address cited above or by accessing the AMS Home Page on the Web at http://www.ams.usda.gov/standards/stanfrfv.htm.

FOR FURTHER INFORMATION CONTACT: Cheri L. Emery, at the above address or call (202) 720-2185; E-mail Cheri.Emery@usda.gov.

SUPPLEMENTARY INFORMATION: Section 203(c) of the Agricultural Marketing Act of 1946 (7 U.S.C. 1621-1627), as amended, directs and authorizes the Secretary of Agriculture “To develop and improve standards of quality, condition, quality, grade and packaging and recommend and demonstrate such standards in order to encourage uniformity and consistency in commercial practices.” AMS is committed to carrying out this authority in a manner that facilitates the marketing of agricultural commodities and makes copies of official standards available upon request. The United States Standards for Grades of Fruits and Vegetables not connected with Federal Marketing Orders or U.S. Import Requirements, no longer appear in the Code of Federal Regulations, but are maintained by the USDA/AMS/Fruit and Vegetable Programs.

AMS is proposing to revise the U.S. Standards for Grades of Fresh Asparagus using the procedures that appear in part 36, title 7 of the Code of Federal Regulations (7 CFR part 36).

Background

At a meeting of the Fruit and Vegetable Industry Committee, AMS was asked to review all the fresh fruit and vegetable grade standards for usefulness in serving the industry. As a result, AMS has identified the U.S. Standards for Grades of Fresh Asparagus color requirement for possible updating. The color requirement only provides for the grading of green color asparagus and not purple or white asparagus.

Prior to undertaking research and other work associated with a revision of the grade, AMS published a notice on March 29, 2005 in the Federal Register (70 FR 59) soliciting comments on the possible revision of the United States Standards for Grades of Fresh Asparagus.

In response to the request for comments, AMS received three comments on the proposed revision. One comment was from an industry group supporting the proposal. The second comment was from a private individual that did not support the revision and was generally opposed to a federal grade standard. And the third comment was from another industry group supporting the development of standards for white and purple asparagus. However, the commenter believes that separate standards are needed, noting that any change to the current standards would compromise the fresh green asparagus marketing standards. We disagree that separate standards for white and purple asparagus are necessary and no change to the current green asparagus requirements are anticipated. The comments are available by accessing AMS's Home Page on the Internet at: http://www.ams.usda.gov/fvfpbdocketlist.htm.

AMS believes that a revision to include purple and white requirements in the color section of the standards is warranted to facilitate the marketing of purple and white asparagus and improve the usefulness of the standards in better serving the industry.

Additionally, AMS is eliminating the unclassified category. This section is being removed in all standards, when they are revised. This category is not a grade and only serves to show that no grade has been applied to a lot or shipment.

The official grade of a lot or shipment of fresh asparagus covered by the standards is determined by the procedures set forth in the Regulations Governing Inspection, Certification, and Standards of Fresh Fruits, Vegetables and Other Products (Sec. 51.1 to 51.61).

This notice provides a 60-day comment period for interested parties to comment on changes to the standards.

Authority: 7 U.S.C. 1621-1627.

Dated: October 3, 2005.
Lloyd C. Day,
Administrator, Agricultural Marketing Service.

[FR Doc. 05-20091 Filed 10-5-05; 8:45 am]

BILLING CODE 3410-02-P